DEPARTMENT OF ENERGY

Federal Energy Regulatory Commission

Combined Notice of Filings #1

Take notice that the Commission received the following exempt wholesale generator filings:

Docket Numbers: EG24-39-000.

Applicants: NMRD Data Center II, LLC.

Description: NMRD Data Center II, LLC submits Notice of Self-Certification of Exempt Wholesale Generator Status.

Filed Date: 11/28/23.

Accession Number: 20231128-5029.

Comment Date: 5 p.m. ET 12/19/23.

Docket Numbers: EG24-40-000.

Applicants: NMRD Data Center III, LLC.

Description: NMRD Data Center III, LLC submits Notice of Self-Certification of Exempt Wholesale Generator Status.

Filed Date: 11/28/23.

Accession Number: 20231128-5038.

Comment Date: 5 p.m. ET 12/19/23.

Docket Numbers: EG24-41-000.

Applicants: True North Solar, LLC.

Description: True North Solar, LLC submits Notice of Self-Certification of Exempt Wholesale Generator Status.

Filed Date: 11/28/23.

Accession Number: 20231128-5093.

Comment Date: 5 p.m. ET 12/19/23.

Take notice that the Commission received the following Complaints and Compliance filings in EL Dockets:

Docket Numbers: EL23-101-000.

Applicants: Mid-Atlantic Offshore Development, LLC.

Description: Mid-Atlantic Offshore Development, LLC submits Supplement to September 21, 2023, Petition for Declaratory Order, Request for Shortened Comment Period and Request for Expedited Consideration.

Filed Date: 11/22/23.

Accession Number: 20231122-5156.

Comment Date: 5 p.m. ET 12/6/23.

Take notice that the Commission received the following electric rate filings:

Docket Numbers: ER12-2708-010.

Applicants: PJM Interconnection, L.L.C., Potomac-Appalachian Highline Transmission, LLC.

Description: ALJ Settlement: Potomac-Appalachian Highline Transmission, LLC submits tariff filing per 385.602: PATH Companies Offer of Settlement in ER09-1256 and ER12-2708 to be effective 12/31/9998.

Filed Date: 11/17/23.

Accession Number: 20231117-5137.

Comment Date: 5 p.m. ET 12/7/23.

Reply Comment Date: 5 p.m. ET 12/15/23.

Docket Numbers: ER23-2929-000.

Applicants: Amcor Storage LLC.

Description: Supplement to September 26, 2023, Amcor Storage LLC tariff filing.

Filed Date: 11/16/23.

Accession Number: 20231116-5226.

Comment Date: 5 p.m. ET 12/8/23.

Docket Numbers: ER24-113-000; ER24-114-000.

Applicants: BCD 2024 Fund 1 Lessee, LLC, Salt Creek Township Solar, LLC.

Description: Supplement to October 16, 2023, Salt Creek Township Solar, LLC, et. al. tariff filing under ER24-113, et. al.

Filed Date: 11/21/23.

Accession Number: 20231121-5232.

Comment Date: 5 p.m. ET 12/12/23.

Docket Numbers: ER24-439-000; ER19-1553-000.

Applicants: Southern California Edison Company, Southern California Edison Company.

Description: Informational Filing of 2024 Transmission Formula Rate Annual Update of Southern California Edison Company.

Filed Date: 11/17/23.

Accession Number: 20231117-5257.

Comment Date: 5 p.m. ET 12/8/23.

Docket Numbers: ER24-441-000.

Applicants: Southern California Edison Company.

Description: Informational Filing of 2024 Formula Rate Annual Update of Southern California Edison Company's West of Devers.

Filed Date: 11/17/23.

Accession Number: 20231117-5259.

Comment Date: 5 p.m. ET 12/8/23.

Docket Numbers: ER24-478-000.

Applicants: GSRP Pipeline Acquisition I LLC, Galt Power, Inc.

Description: GSRP Pipeline Acquisition I LLC and Galt Power, Inc. submit a Limited, Prospective Waiver of ISO New England's Operating Procedure and Transmission, Markets, and Services Tariff.

Filed Date: 11/22/23.

Accession Number: 20231122-5217.

Comment Date: 5 p.m. ET 12/13/23.

Docket Numbers: ER24-485-000.

Applicants: AEP Texas Inc.

Description: § 205(d) Rate Filing: AEPTX-Dove Run Solar Generation Interconnection Agreement to be effective 10/31/2023.

Filed Date: 11/27/23.

Accession Number: 20231127-5186.

Comment Date: 5 p.m. ET 12/18/23.

Docket Numbers: ER24-486-000.

Applicants: Shenandoah Hills Wind Project, LLC.

Description: Request for Prospective Tariff Waiver, et al. of Shenandoah Hills Wind Project, LLC.

Filed Date: 11/27/23.

Accession Number: 20231127-5210.

Comment Date: 5 p.m. ET 12/18/23.

Docket Numbers: ER24-487-000.

Applicants: PJM Interconnection, L.L.C.

Description: § 205(d) Rate Filing: Amendment to 11 Service Agreements re: FirstEnergy Reorganization to be effective 12/31/9998.

Filed Date: 11/28/23.

Accession Number: 20231128-5068.

Comment Date: 5 p.m. ET 12/19/23.

Docket Numbers: ER24-488-000.

Applicants: Dow Pipeline Company.

Description: § 205(d) Rate Filing: Notice of Succession and Revised Market-Based Rate Tariff to be effective 11/29/2023.

Filed Date: 11/28/23.

Accession Number: 20231128-5076.

Comment Date: 5 p.m. ET 12/19/23.

Docket Numbers: ER24-489-000.

Applicants: Southwest Power Pool, Inc.

Description: § 205(d) Rate Filing: 3396R3 Otter Tail Power Company NITSA and NOA to be effective 1/1/2024.

Filed Date: 11/28/23.

Accession Number: 20231128-5089.

Comment Date: 5 p.m. ET 12/19/23.

Docket Numbers: ER24-490-000.

Applicants: Southwest Power Pool, Inc., Otter Tail Power Company.

Description: § 205(d) Rate Filing: Southwest Power Pool, Inc. submits tariff filing per 35.13(a)(2)(iii: Otter Tail Power Company Network Customer Transmission Credits to be effective 1/1/2024.

Filed Date: 11/28/23.

Accession Number: 20231128-5115.

Comment Date: 5 p.m. ET 12/19/23.

Docket Numbers: ER24-491-000.

Applicants: AEP Texas Inc.

Description: § 205(d) Rate Filing: AEPTX-Whirlwind Energy 1st A&R Generation Interconnection Agreement to be effective 11/3/2023.

Filed Date: 11/28/23.

Accession Number: 20231128-5116.

Comment Date: 5 p.m. ET 12/19/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 28, 2023.
Kimberly D. Bose,
Secretary.

[FR Doc. 2023-26540 Filed 12-1-23; 8:45 am]

BILLING CODE 6717-01-P